DEPARTMENT OF TRANSPORTATION

Federal Highway Administration

[Docket No. FHWA-2012-0081]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We published a Federal Register Notice with a 60-day public comment period on this information collection on June 22, 2012. We are required to publish this notice in the Federal Register by the Paperwork Reduction Act of 1995.

DATES: Please submit comments by November 8, 2012.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2012-0081.

FOR FURTHER INFORMATION CONTACT: Chris Allen, 202-366-4104, Office of Highway Policy Information, Federal Highway Administration, Department of Transportation, 1200 New Jersey Avenue SE., Washington, DC 20590, between 6:30 a.m. to 4:30 p.m., Monday through Friday, except Federal holidays.

SUPPLEMENTARY INFORMATION: Title: Federal Highway Administration (FHWA) State Reports for American Recovery and Reinvestment Act (Recovery Act)

Background: The American Recovery and Reinvestment Act of 2009 (Recovery Act), provides the State Departments of Transportation and Federal Lands Agencies with $27.5 billion for highway infrastructure investment. With these funds also comes an increased level of data reporting with the stated goal of improving transparency and accountability at all levels of government. According to President Obama “Every American will be able to hold Washington accountable for these decisions by going online to see how and where their tax dollars are being spent.” The Federal Highway Administration (FHWA) in concert with the Office of the Secretary of Transportation (OST) and the other modes within the U.S. Department of Transportation (DOT) will be taking the appropriate steps to ensure that accountability and transparency are provided for all infrastructure investments.

The reporting requirements of the Recovery Act are covered in Sections 1201 and 1512. Section 1201 (c)(1) stipulates that “notwithstanding any other provision of law each grant recipient shall submit to the covered agency (FHWA) from which they received funding periodic reports on the use of the funds appropriated in this Act for covered programs. Such reports shall be collected and compiled by the covered agency (FHWA) and transmitted to Congress. Covered agencies (FHWA) may develop such reports on behalf of grant recipients (States) to ensure the accuracy and consistency of such reports.”

Section 1512 of the Recovery Act requires “any entity that receives recovery funds directly from the Federal Government (including recovery funds received through grant, loan, or contract) other than an individual,” including States, to provide regular “Recipient Reports.”

As the recipients or grantees for the majority of the Recovery Act funds, States and Federal Land Management Agencies (FLMA) are by statute responsible for reporting to FHWA on the projects, use of Recovery Act funds, and jobs supported. States and FLMA that receive recovery fund apportionments directly from the Federal government are responsible for reporting to FHWA, and are also responsible for reporting quarterly to the federalreporting.gov Web site. To achieve a high-quality, consistent basis for reporting and project oversight, FHWA has designed the Recovery Act Database System (RADS) for obtaining and summarizing data including reports to congress, project oversight, and other purposes.

States and FLMA will be responsible for providing the data that are not currently available at the national level. Not every data element required to be reported by the Recovery Act needs to be specifically collected. To the maximum extent possible, FHWA will utilize existing data programs to meet the Recovery Act reporting requirements. For example, for the requirement to report aggregate expenditures of State funds, FHWA will use existing reports submitted by States and data collected in the Financial Management Information System (FMIS). While the reporting obligations in the Recovery Act are only applicable to the grant recipients, the States and FLMA may need to obtain certain information from their contractors, consultants, and other funding recipients in order to provide the FHWA with all of the required information.

Additional information on the American Recovery and Reinvestment Act of 2009 is available at http://www.fhwa.dot.gov/economicrecovery/index.htm.

Respondents In a reporting cycle, it is estimated that reports will be received from approximately 70 grant recipients. Respondents include: 50 State Departments of Transportation, the District of Columbia and Puerto Rico, the U.S. territories, the following Federal Land Management Agencies: National Park Service, U.S. Fish and Wildlife, National Forest Service and the Bureau of Indian Affairs, and several Native American Indian Governments who, by contract, manage their own transportation program. These reports will be submitted through the RADS and reviewed for accuracy by the FHWA Division Offices.

Estimated Average Burden per Response: 5 hours

Estimated Total Annual Burden Hours: Total estimated average annual burden is 4000 hours.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued On: October 1, 2012.
Steven Smith,
Chief, Information Technology Division.

[FR Doc. 2012-24801 Filed 10-5-12; 8:45 am]

BILLING CODE 4910-22-P